DEPARTMENT OF HEALTH AND HUMAN SERVICES

Administration for Children and Families

[CFDA Number: 93.676]

Announcement of the Award of Fifteen Single-Source Program Expansion Supplement Grants to Unaccompanied Alien Children's Shelter Care Grantees

AGENCY: Office of Refugee Resettlement, Administration for Children and Families, Department of Health and Human Services.

ACTION: Announcement of the award of fifteen single-source program expansion grants to ten current grantees to expand bed capacity and supportive services to the increasing number of unaccompanied alien children.

SUMMARY: The Administration for Children and Families (ACF), Office of Refugee Resettlement (ORR) announces the award of fifteen single-source program expansion supplement grants to the following ten current grantees, for a total of $47,168,490.

Organization | Location | Amount
BCFS Health and Human Services | San Antonio, TX | $3,039,665
Heartland Human Care Services, Inc. | Chicago, IL | 1,659,393
Southwest Key, Inc. | Austin, TX | 13,431,660
Children's Village | Dobbs Ferry, NY | 4,208,741
United States Conference of Catholic Bishops | Washington, DC | 209,576
Lutheran Immigration Refugee Services | Baltimore, MD | 281,452
US Committee for Refugees and Immigrants | Washington, DC | 602,690
International Education Services | Los Fresnos, TX | 16,314,360
Lincoln Hall | Lincolndale, NY | 7,024,414
David and Margaret Youth & Family Services | LaVerne, CA | 396,539

These supplement grants will support the expansion of bed capacity and supportive services to meet the number of unaccompanied alien children referrals from the Department of Homeland Security (DHS). The funding program is mandated by section 462 of the Homeland Security Act to ensure appropriate placement of all referrals from the DHS. The program is tied to DHS apprehension strategies and sporadic number of border crossers. Award funds will support services to unaccompanied alien children through September 30, 2013.

DATES: The period of support under these supplements is October 1, 2012 through September 30, 2013.

FOR FURTHER INFORMATION CONTACT: Jallyn Sualog, Acting Director, Division of Children's Services, Office of Refugee Resettlement, 901 D Street SW., Washington, DC 20447, Telephone (202) 401-4997. Email: jallyn.sualog@acf.hhs.gov

SUPPLEMENTARY INFORMATION: Since the beginning of FY 13, the Unaccompanied Alien Children (UAC) program has seen a dramatic increase in the number of DHS referrals. The influx of border crossers referred by DHS has grown beyond anticipated rates and has resulted in the program needing a significant increase in the number of shelter beds and supportive services.

The UAC program has specific requirements for the provision of services to unaccompanied alien children. These grantee organizations are the only entities with the infrastructure, licensing, experience, and appropriate level of trained staff to meet the required service requirements and the urgent need for the expansion of services required to respond to unexpected arrivals of unaccompanied children. The program expansion supplement will support such services and alleviate the buildup of children waiting in border patrol stations for placement in shelter care.

Statutory Authority: Section 462 of the Homeland Security Act, (6 U.S.C. 279) and sections 235(c) and 235(d) of the William Wilberforce Trafficking Victims Protection Reauthorization Act of 2008, (8 U.S.C. 1232(c) and 1232(d)).

Eskinder Negash,
Director, Office of Refugee Resettlement.

[FR Doc. 2013-07061 Filed 3-26-13; 8:45 am]

BILLING CODE 4184-45-P